DEPARTMENT OF TRANSPORTATION

Federal Aviation Administration

14 CFR Part 39

[Docket No. 99-NM-218-AD; Amendment 39-12949; AD 2002-23-05]

RIN 2120-AA64

Airworthiness Directives; Cessna Model 750 Airplanes

AGENCY: Federal Aviation Administration, DOT.

ACTION: Final rule.

SUMMARY: This amendment adopts a new airworthiness directive (AD), applicable to certain Cessna Model 750 airplanes, that requires replacement of reset circuit breakers for the auxiliary hydraulic pump system and the King KHF 950 high frequency communication system(s) with new circuit breakers. This amendment is prompted by a report from the airplane manufacturer indicating that the trip levels for the reset circuit breakers installed in the auxiliary hydraulic pump system and the King KHF 950 high frequency system(s) are too high, which can prevent corresponding high current remote control circuit breakers from tripping when excessive electrical loads are present. The actions specified by this AD are intended to prevent overloading of the affected airplane electrical wiring and circuits, which could result in a fire.

DATES: Effective December 26, 2002.

The incorporation by reference of certain publications listed in the regulations is approved by the Director of the Federal Register as of December 26, 2002.

ADDRESSES: The service information referenced in this AD may be obtained from Cessna Aircraft Co., PO Box 7706, Wichita, Kansas 67277. This information may be examined at the Federal Aviation Administration (FAA), Transport Airplane Directorate, Rules Docket, 1601 Lind Avenue, SW., Renton, Washington; or at the FAA, Wichita Aircraft Certification Office, 1801 Airport Road, Room 100, Mid-Continent Airport, Wichita, Kansas; or at the Office of the Federal Register, 800 North Capitol Street, NW., Suite 700, Washington, DC.

FOR FURTHER INFORMATION CONTACT: Jose Flores, Aerospace Engineer, Systems and Propulsion Branch, ACE-116W, FAA, Wichita Aircraft Certification Office, 1801 Airport Road, Room 100, Mid-Continent Airport, Wichita, Kansas 67209; telephone (316) 946-4133; fax (316) 946-4407.

SUPPLEMENTARY INFORMATION: A proposal to amend part 39 of the Federal Aviation Regulations (14 CFR part 39) to include an airworthiness directive (AD) that is applicable to certain Cessna Model 750 airplanes was published in the Federal Register on November 4, 1999 (64 FR 60136). That action proposed to require replacement of reset circuit breakers for the auxiliary hydraulic pump system and the King KHF 950 high frequency communication system(s) with new circuit breakers.

Comment

Interested persons have been afforded an opportunity to participate in the making of this amendment. Due consideration has been given to the comment received.

Request To Withdraw Proposed AD

One commenter, the airplane manufacturer, states that it has verified that 100 percent of the affected Cessna Model 750 airplanes have done the replacement required by the proposed AD per Cessna Service Bulletin SB750-24-15, dated May 7, 1999 (which is referenced as an acceptable means of compliance in the proposed AD). The commenter adds that “production aircraft units; 750-0073 through 750-0100 received replacement circuit breakers by disposition,” and that this change was serialized on airplanes having serial number 750-0101 in production, with the incorporation of the split bus.

From this comment, the FAA infers that the commenter is requesting that the proposed AD be withdrawn. We do not agree. The airplane manufacturer provided no data that all affected airplanes, worldwide, have had the required replacement incorporated; therefore, this AD is necessary to address the identified unsafe condition on the affected airplanes.

Because the language in Note 2 of the proposed AD is regulatory in nature, that note has been redesignated as paragraph (b) of this final rule.

Conclusion

After careful review of the available data, including the comment noted above, the FAA has determined that air safety and the public interest require the adoption of the rule with the change previously described. The FAA has determined that this change will neither increase the economic burden on any operator nor increase the scope of the AD.

Cost Impact

There are approximately 82 airplanes of the affected design in the worldwide fleet. The FAA estimates that 80 airplanes of U.S. registry will be affected by this AD, that it will take approximately 3 work hours per airplane to accomplish the required replacement, and that the average labor rate is $60 per work hour. The airplane manufacturer has committed previously to its customers that it will bear the cost of replacement parts. As a result, the costs of those parts are not attributable to this AD. Based on these figures, the cost impact of the AD on U.S. operators is estimated to be $14,400, or $180 per airplane.

The cost impact figure discussed above is based on assumptions that no operator has yet accomplished any of the requirements of this AD, and that no operator would accomplish those actions in the future if this AD were not adopted. However, the FAA has been advised that manufacturer warranty remedies are available for parts and labor costs associated with accomplishing the actions required by this AD. Therefore, the future economic cost impact of this rule on U.S. operators may be less than the cost impact figure indicated above.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-23-05 Cessna Aircraft Company: Amendment 39-12949. Docket 99-NM-218-AD.

Applicability: Model 750 airplanes, serial numbers-0001 through-0100 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent overloading of certain airplane electrical wiring and circuits, which could result in a fire, accomplish the following:

Replacement

(a) Within 90 days after the effective date of this AD, replace the 5.0-ampere reset circuit breakers for the auxiliary hydraulic pump system and the King KHF 950 high frequency communication system(s) with 0.5-ampere reset circuit breakers, in accordance with Cessna Service Bulletin SB750-24-15, Revision 1, dated May 24, 1999.

(b) Circuit breaker replacement accomplished prior to the effective date of this AD in accordance with Cessna Service Bulletin SB750-24-15, dated May 7, 1999, is considered acceptable for compliance with the applicable action specified in this amendment.

Alternative Methods of Compliance

(c) An alternative method of compliance or adjustment of the compliance time that provides an acceptable level of safety may be used if approved by the Manager, Wichita Aircraft Certification Office, (ACO), FAA. Operators shall submit their requests through an appropriate FAA Principal Maintenance Inspector, who may add comments and then send it to the Manager, Wichita ACO.

Note 2: Information concerning the existence of approved alternative methods of compliance with this AD, if any, may be obtained from the Wichita ACO.

Special Flight Permits

(d) Special flight permits may be issued in accordance with sections 21.197 and 21.199 of the Federal Aviation Regulations (14 CFR 21.197 and 21.199) to operate the airplane to a location where the requirements of this AD can be accomplished.

Incorporation by Reference

(e) The replacement shall be done in accordance with Cessna Service Bulletin SB750-24-15, Revision 1, including Supplemental Data, Revision A, dated May 24, 1999. This incorporation by reference was approved by the Director of the Federal Register in accordance with 5 U.S.C. 552(a) and 1 CFR part 51. Copies may be obtained from Cessna Aircraft Co., PO Box 7706, Wichita, Kansas 67277. Copies may be inspected at the FAA, Transport Airplane Directorate, 1601 Lind Avenue, SW., Renton, Washington; or at the FAA, Wichita Aircraft Certification Office, 1801 Airport Road, Room 100, Mid-Continent Airport, Wichita, Kansas; or at the Office of the Federal Register, 800 North Capitol Street, NW., Suite 700, Washington, DC.

Effective Date

(f) This amendment becomes effective on December 26, 2002.

Issued in Renton, Washington, on November 8, 2002.
Vi L. Lipski,
Manager, Transport Airplane Directorate, Aircraft Certification Service.

[FR Doc. 02-29119 Filed 11-19-02; 8:45 am]

BILLING CODE 4910-13-P